NUCLEAR REGULATORY COMMISSION

10 CFR Part 72

[NRC-2024-0182]

RIN 3150-AL22

List of Approved Spent Fuel Storage Casks: Holtec International HI-STORM UMAX Canister Storage System, Certificate of Compliance No. 1040, Revision 1 to Amendment Nos. 0 Through 2

AGENCY: Nuclear Regulatory Commission.

ACTION: Direct final rule; confirmation of effective date.

SUMMARY: The U.S. Nuclear Regulatory Commission (NRC) is confirming the effective date of April 21, 2025, for the direct final rule that was published in the Federal Register on February 4, 2025. This direct final rule amended the NRC's spent fuel storage regulations by revising the Holtec International HI-STORM UMAX Canister Storage System listing within the “List of approved spent fuel storage casks” to include Revision 1 to Amendment Nos. 0 through 2 to Certificate of Compliance (CoC) No. 1040. Revision 1 to Amendment Nos. 0 through 2 updates the CoC appendix A technical specifications for radiation protection and the associated bases information to clearly articulate the basis for the dose rate limits for the closure lids, modify the dose rate limit values and the description of the location of the dose rate measurements, and make other editorial changes.

DATES: Effective date: The effective date of April 21, 2025, for the direct final rule published February 4, 2025 (90 FR 8861), is confirmed.

ADDRESSES: Please refer to Docket ID NRC-2024-0182 when contacting the NRC about the availability of information for this action. You may obtain publicly available information related to this action by any of the following methods:

• Federal Rulemaking Website: Go to https://www.regulations.gov and search for Docket ID NRC-2024-0182. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The revision of Certificate of Compliance No. 1040, the associated change(s) to the technical specification(s), and the final safety evaluation report(s) are available in ADAMS under Accession No. ML25065A166.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: George Tartal, Office of Nuclear Materials Safety and Safeguards, U.S. Nuclear Regulatory Commission, Washington, DC 20555-0001; telephone: 301-415-0016, email: George.Tartal@nrc.gov.

SUPPLEMENTARY INFORMATION: On February 4, 2025 (90 FR 8861), the NRC published a direct final rule amending its regulations in part 72 of title 10 of the Code of Federal Regulations to revise Amendment Nos. 0 through 2 to CoC No. 1040 for the Holtec International, HI-STORM UMAX Cannister Storage System. Revision 1 to Amendment Nos. 0 through 2 update the CoC appendix A technical specifications for radiation protection and the associated bases information to clearly articulate the basis for the dose rate limits for the closure lids, modify the dose rate limit values and the description of the location of the dose rate measurements, and make other editorial changes. In the direct final rule, the NRC stated that if no significant adverse comments were received, the direct final rule would become effective on April 21, 2025. The NRC received one comment on the direct final rule that was out of scope and not significantly adverse. Therefore, this direct final rule will become effective as scheduled.

Dated: March 14, 2025.
For the Nuclear Regulatory Commission.
Araceli Billoch Colon,
Chief, Regulatory Analysis and Rulemaking Support Branch, Division of Rulemaking, Environmental, and Financial Support Office of Nuclear Material Safety and Safeguards.

[FR Doc. 2025-04624 Filed 3-18-25; 8:45 am]

BILLING CODE 7590-01-P